DEPARTMENT OF HOMELAND SECURITY

Federal Emergency Management Agency

[Docket ID: FEMA-2020-0033; OMB No. 1660-0026]

Agency Information Collection Activities: Proposed Collection; Comment Request; State Administrative Plan for the Hazard Mitigation Grant Program

AGENCY: Federal Emergency Management Agency, DHS.

ACTION: 60 day notice and request for comments.

SUMMARY: The Federal Emergency Management Agency, as part of its continuing effort to reduce paperwork and respondent burden, invites the general public to take this opportunity to comment on an extension, without change, of a currently approved information collection. In accordance with the Paperwork Reduction Act of 1995, this notice seeks comments concerning the State Administrative Plan for the procedural guide that details how the State will administer the Hazard Mitigation Grant Program (HMGP).

DATES: Comments must be submitted on or before January 8, 2021.

ADDRESSES: Submit comments at www.regulations.gov under Docket ID FEMA-2020-0033. Follow the instructions for submitting comments.

All submissions received must include the agency name and Docket ID, and will be posted, without change, to the Federal eRulemaking Portal at http://www.regulations.gov, and will include any personal information you provide. Therefore, submitting this information makes it public. You may wish to read the Privacy and Security Notice that is available via a link on the homepage of www.regulations.gov.

FOR FURTHER INFORMATION CONTACT: Roselyn Brown-Frei, Section Chief, Hazard Mitigation Division, Federal Insurance and Mitigation Administration, FEMA, roselyn.brown-frei@fema.dhs.gov, 202-924-7198. You may contact the Information Management Division for copies of the proposed collection of information at email address: FEMA-Information-Collections-Management@fema.dhs.gov.

SUPPLEMENTARY INFORMATION: FEMA regulations in 44 CFR 206.437 require development and updates to the State Administrative Plan by State Applicants/Recipients, as a condition of receiving HMGP funding under section 404 of the Robert T. Stafford Disaster Relief and Emergency Assistance Act, 42 U.S.C. 5170c. Applicant/Recipients can be any State of the United States, the District of Columbia, Puerto Rico, the Virgin Islands, Guam, American Samoa, and the Commonwealth of the Northern Mariana Islands, or an Indian Tribal government (federally-recognized) that chooses to act as an Applicant/Recipient. A State is defined in section 102(4) of the Stafford Act (42 U.S.C. 5122) as any State of the United States, the District of Columbia, Puerto Rico, the Virgin Islands, Guam, American Samoa, and the Commonwealth of the Northern Mariana Islands.

Collection of Information

Title: State Administrative Plan for the Hazard Mitigation Grant Program.

Type of Information Collection: Extension, without change, of a currently approved information collection.

OMB Number: 1660-0026.

FEMA Forms: None.

Abstract: The State Administrative Plan is a procedural guide that details how the State will administer the HMGP. The State, Territory, or Indian Tribal government (who acts as a recipient) must have a current administrative plan approved by the appropriate FEMA Regional Administrator before receiving HMGP funds. The administrative plan may take any form including a chapter within a comprehensive State mitigation program strategy.

Affected Public: State, Territories, and Tribal governments.

Estimated Number of Respondents: 35.

Frequency of Response: Twice Annually.

Estimated Number of Responses: 70.

Estimated Total Annual Burden Hours: 560.

Estimated Total Annual Respondent Cost: $32,704.

Estimated Respondents' Operation and Maintenance Costs: There are no Operation and Maintenance Costs associated with this information collection.

Estimated Respondents' Capital and Start-Up Costs: There are no record keeping, capital, start-up or maintenance costs associated with this information collection.

Estimated Total Annual Cost to the Federal Government: $23,871.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Maile Arthur,
Acting Records Management Branch Chief, Office of the Chief Administrative Officer, Mission Support, Federal Emergency Management Agency, Department of Homeland Security.

[FR Doc. 2020-24845 Filed 11-6-20; 8:45 am]

BILLING CODE 9111-BW-P